DEPARTMENT OF AGRICULTURE

Forest Service

Star Fire Restoration; Eldorado National Forest, Placer County, CA

AGENCY: Forest Service, USDA.

ACTION: Notice of intent to prepare an environmental impact statement.

SUMMARY: The Star Fire burned 16,800 acres in August and September, 2001, on the Tahoe and Eldorado National Forests. Of the total fire, approximately 2,416 acres burned on the Georgetown Ranger District of the Eldorado National Forest. The USDA, Forest Service, Eldorado National Forest will prepare an environmental impact statement (EIS) on a proposal to treat approximately 1650 acres of fire killed and damaged trees in the Star Fire burned area. The fire area is identified in the Sierra Nevada Forest Plan Amendment as old forest emphasis and general forest. The purpose of the project is to enhance the development of old forest conditions over the long term by reducing fuel accumulation and fire hazard, increasing the ability to suppress future wildfire, increasing ground cover to protect soil productivity and improve watershed condition, and recovering the value of wood products to fund reforestation and restoration. The proposed action is also designed to contribute to snag and log needs of wildlife, improve aquatic habitats and stream channel function, and provide for public and forest worker safety. It is believed that watershed condition and the probability of growing old forest conditions over the long term will be improved by this project.

DATES: Comments concerning the scope and implementation of this proposal should be received by January 4, 2002.

ADDRESSES: Send written comments to Patricia Ferrell, Project Leader, Eldorado National Forest, 100 Forni Road, Placerville, CA 95667.

FOR FURTHER INFORMATION CONTACT: Questions and comments about this EIS should be directed to Patricia Ferrell, at the above address, or call her at 530-642-5146.

SUPPLEMENTARY INFORMATION: The fire caused extensive tree mortality. Field examination indicates that 71% of the project area currently exhibits >75% stand mortality by basal area, 2% of the project area is unburned, 20% of the project area is non forest (rock and barren areas) and plantations, and 7% of the project area currently exhibits 75% mortality by basal area. Additional mortality is likely to become evident next spring and summer as more crowns begin to brown and bark beetles become established. As a result of the fire, much of the project area has reverted from mid to late seral forest conditions to early seral forest. Establishment of old forest requires survival and growth of individual trees and forested stands over the next 250+ years without the occurrence of another stand replacing fire. Preventing another stand replacing fire involves a combination of recurring fuel treatments to modify fire behavior, and effective suppression. Removal of dead trees will reduce future fuel accumulation, improve the ability to effectively suppress future wildfires, and increase the ability to maintain low fuel conditions through prescribed fire. The process of removing dead trees would maintain soil productivity for tree growth by immediately increasing effective ground cover (limbs, twigs, and small boles) to reduce soil erosion. The proposed action would remove dead trees using ground based, skyline, and helicopter logging methods. Trees posing a safety hazard to the public and forest workers would be removed along maintenance level 1, 2, 3, 4, and 5 roads. Roads would be reconstructed to facilitate tree removal and improve watershed condition. Slash and small dead trees would be treated to provide ground cover and reduce long term fuel loading. Protection would be applied to sensitive plants, wildlife species, and cultural resources.

The proposed action is consistent with the 1989 Eldorado National Forest Land and Resource Management Plan as amended by the Sierra Nevada Forest Plan Amendment Record of Decision (2001).

The decision to be made is whether to adopt and implement the proposed action, an alternative to the proposed action, or take no action to remove fire killed and damaged trees in the project area.

Other alternatives will be developed based on significant issues identified during the scoping process for the environmental impact statement. All alternatives will need to respond to the specific condition of providing benefits equal to or better than the current condition. Alternatives being considered at this time include: (1) No Action and (2) the Proposed Action.

Public participation will be especially important at several points during the analysis. The Forest Service will be seeking information, comments, and assistance from the Federal, State, and local agencies and other individuals or organizations who may be interested in or affected by the proposed action. To facilitate public participation information about the proposed action is being mailed to all who have expressed interest in the proposed action based on publication in the Eldorado National Forest Schedule of Proposed Action and notification of the public scoping period will be published in the Mountain Democrat, Placerville, CA.

Comments submitted during the scoping process should be in writing and should be specific to the proposed action. The comments should describe as clearly and completely as possible any issues the commenter has with the proposal. The scoping process includes:

(a) Identifying potential issues;

(b) Identifying issues to be analyzed in depth.

(c) Eliminating nonsignificant issues or those previously covered by a relevant previous environmental analysis;

(d) Exploring additional alternatives;

(e) Identifying potential environmental effects of the proposed action and alternatives.

The draft EIS is expected to be filed with the Environmental Protection Agency (EPA) and to be available for public review by January 2002. EPA will publish a notice of availability of the draft EIS in the Federal Register. The comment period on the draft EIS will be 45 days from the date the EPA notice appears in the Federal Register. At that time, copies of the draft EIS will be distributed to interested and affected agencies, organizations, and members of the public for their review and comment. It is very important that those interested in the management of the Eldorado National Forest participate at that time.

The Forest Service believes it is important to give reviewers notice at this early stage of several court rulings related to public participation in the environmental review process. First, reviewers of a draft EIS must structure their participation in the environmental review of the proposal so that it is meaningful and alerts an agency to the reviewer's position and contentions. Vermont Yankee Nuclear Power Corp. v. NRDC, 435 U.S. 519, 533 (1978). Also, environmental objections that could be raised at the draft EIS stage, but that are not raised until after completion of the final EIS may be waived or dismissed by the courts. City of Angoon v. Hodel, 803f. 2d 1016, 1022 (9th Cir. 1986) and Wisconsin Heritages, Inc. v. Harris, 490 F. Supp. 1334, 1338 (E.D. Wis. 1980). Because of these court rulings, it is very important that those interested in this proposed action participate by the close of the comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft EIS. Comments may also address the adequacy of the draft EIS or the merits of the alternatives formulated and discussed in the statement. (Reviewers may wish to refer to the Council on Environmental Quality Regulations for implementing the procedural provisions of the National Environmental Policy Act at 40 CFR 1503.3 in addressing these points).

The final EIS is scheduled to be completed in March 2002. In the final EIS, the Forest Service is required to respond to substantive comments received during the comment period that pertain to the environmental consequences discussed in the draft EIS and applicable laws, regulations, and policies considered in making the decision regarding this proposal.

John Berry, Forest Supervisor, Eldorado National Forest is the responsible official. As the responsible official he will document the decision and reasons for the decision in the Record of Decision. That decision will be subject to Forest Service appeal regulations (36 CFR Part 215).

Dated: December 19, 2001.
Susan A. Rodman,
Acting Forest Supervisor.

[FR Doc. 01-31906 Filed 12-27-01; 8:45 am]

BILLING CODE 3410-11-M